Title 3—

The President

Memorandum of February 13, 2026

Presidential Waiver of Statutory Requirements Pursuant to Section 303 of the Defense Production Act of 1950, as Amended

Memorandum for the Secretary of War

By the authority vested in me as President by the Constitution and the laws of the United States of America, including section 303 of the Defense Production Act of 1950, as amended (the “Act”) (50 U.S.C. 4533), I hereby determine, pursuant to section 303(a)(7)(B) of the Act, that action is necessary to avert shortfalls in critical Department of War supply chains that would severely impair national defense capability. Therefore, I waive the requirements of section 303(a)(2)-(a)(6) of the Act for supply chains critical to reviving the defense industrial base.

Supply chains encompassed within this memorandum include those associated with supporting the following critical sectors identified in “Assessing and Strengthening the Manufacturing and Defense Industrial Base and Supply Chain Resiliency of the United States: Report to President Donald J. Trump by the Interagency Task Force in Fulfillment of Executive Order 13806” (September 2018): aircraft—fixed wing, rotorcraft, and unmanned aerial systems required for air-to-air and air-to-ground military operations and transport; protection from chemical, biological, radiological, and nuclear threats and attacks; ground systems—tracked and wheeled vehicles for combat, combat support, and combat service support; nuclear warheads and testing platforms; radar and electronic warfare systems; shipbuilding industrial base; soldier systems—products necessary to maximize the Warfighter's survivability, lethality, sustainability, mobility, combat effectiveness, and field quality of life, including weapons, body armor and military apparel, and the materials and components thereof extending to relevant life support auxiliary components; space—satellites, launch services, ground systems satellite components and subsystems, networks, engineering services, payloads, propulsion, terminals (fixed and mobile), and electronics; electronics for defense systems, including microelectronics; machine tools and industrial controls to support production and prototyping operations for defense capabilities; organic industrial base; and workforce training pipelines in support of industrial resources or technology items critical to national defense.

Ensuring a robust, resilient, and sustainable domestic industrial base is essential to our national security and the preservation of domestic critical infrastructure.

You are authorized and directed to publish this memorandum in the Federal Register.

THE WHITE HOUSE,

Washington, February 13, 2026

[FR Doc. 2026-03380

Filed 2-18-26; 11:15 am]

Billing code 6001-FR-P